DEPARTMENT OF THE INTERIOR

Bureau of Land Management

[OR-025-02-1430-NJ: GPO 2-0137]

Realty Action: Sale of Public Land in Harney County, Oregon

AGENCY: Bureau of Land Management (BLM), Burns District.

ACTION: Notice of Realty Action, Sale of Public Land.

SUMMARY: The following public land is being considered for sale at the appraised fair market value, under section 203 of the Federal Land Policy and Management Act (FLPMA) of 1976 (90 Stat. 2750, 43 U.S.C. 1713).

Willamette Meridian,

T. 24 S., R. 29 E.,

Section 2, lot 6.

Comprising 7.92 acres.

Appraised Market Value (minimum bid) is $3,565.

The following rights, reservations, and conditions will be included on the patents conveying the land:

A reservation for a right-of-way for ditches and canals constructed thereon by the authority of United States.

This land is being considered for modified competitive sale to the adjacent landowner, Jack and Carolyn Bauer (designated bidder), to resolve a trespass. The encroachment involves portions of a plowed, planted, and cultivated field that was placed over the property line. Federal regulations describe procedures to address unauthorized use which include provisions to reimburse BLM for administrative costs.

The affected public land has been surveyed and includes an area measuring 7.92 acres. This configuration would minimize impacts to public resources, include all private improvements and provide enough land to satisfy County set back requirements and the highway right-of-way.

The buyer has expressed an interest to obtain the Federal mineral estate which is offered under the authority of section 209(b) of the FLPMA of 1976. In addition to the fair market price, a nonrefundable fee of $50 is necessary to purchase the mineral estate which would be conveyed simultaneously with the sale of the land.

The land described is segregated from appropriation under the public land laws, including the mining laws, pending disposition of this action or 270 days from the date of publication of this notice, whichever occurs first.

Bidding Procedure for Modified Competitive Land Sale

Modified competitive procedures are allowed by the regulations (43 CFR 2710.0-6(c)(3)(ii)) to provide exceptions to competitive bidding to assure compatibility with existing and potential land uses.

Under modified competitive procedures the designated bidder, identified above as Jack and Carolyn Bauer, will be given the opportunity to match or exceed the apparent high bid. The apparent high bid will be established by the highest valid sealed bid received in an initial round of public bidding. If two or more valid sealed bids of the same amount are received for the same parcel, that amount shall be determined to be the apparent high bid. The designated bidder is required to submit a valid bid in the initial round of public bidding to maintain their preference consideration. The bid deposit for the apparent high bid(s) and the designated bidder will be retained and all others will be returned.

The designated bidder will be notified by certified mail of the apparent high bid. Failure to act by the designated bidder will result in the parcel being offered to the apparent high bidder or declared unsold, if no bids were received in the initial round of bidding.

All sealed bids must be submitted to the Burns District Office, no later than 2 p.m. PST on June 11, 2002, the time of the bid opening. The outside of bid envelopes must be clearly marked with “BLM Land Sale,” the parcel number and the bid opening date. Bids must be for not less than the appraised market value (minimum bid) of $3,565. Each sealed bid shall be accompanied by a certified check, postal money order, bank draft, or cashier's check made payable to the Department of the Interior-BLM for not less than 20 percent of the amount bid. The bid envelope must also contain a statement showing the total amount bid and the name, mailing address, and phone number of the entity making the bid.

Federal law requires that public land may be sold only to either, (1) citizens of the United States 18 years of age or older; (2) corporations subject to the laws of any State or the United States; (3) other entities such as associations and partnerships capable of holding land or interests therein under the laws of the State within which the land is located; or (4) States, State instrumentalities or political subdivisions authorized to hold property. Certifications and evidence to this effect will be required of the purchaser prior to issuance of conveyance documents.

Prospective purchasers will be allowed 180 days to submit the balance of the purchase price. Personal checks or cash will be acceptable for this additional deposit only. Failure to meet this timeframe shall cause the deposit to be forfeited to the BLM. The parcel will then be offered to the next lowest qualified bidder, or if no other bids were received, the parcel will be declared unsold.

DATES: This office has prepared Documentation of Land Use Plan Conformance and National Environmental Policy Act Adequacy to evaluate the proposal. On or before May 28, 2002, interested persons may submit comments. In the absence of any objections, this proposal will become the determination of the Department of the Interior.

ADDRESSES: Comments should be submitted to the Acting Three Rivers Resource Area Field Manager, 28910 Hwy 20 West, Hines, Oregon 97738.

FOR FURTHER INFORMATION CONTACT: Detailed information concerning this public land sale is available from Holly Griebel LaChapelle, Land Law Examiner, at the above address, phone (541) 573-4501.

Dated: March 6, 2002.
Rudolph J. Hefter,
Acting Three Rivers Resource Area Field Manager.

[FR Doc. 02-8878 Filed 4-11-02; 8:45 am]

BILLING CODE 4310-33-P